SMALL BUSINESS ADMINISTRATION

[Declaration of Disaster #3339]

State of Wisconsin; Amendment #6

In accordance with a notice received from the Federal Emergency Management Agency, dated July 6, 2001, the above-numbered Declaration is hereby amended to include Barron County as a disaster area caused by flooding, severe storms and tornadoes occurring between April 10, 2001 and continuing.

Any counties contiguous to the above named primary counties and not listed here have been previously declared.

All other information remains the same, i.e., the deadline for filing applications for physical damage is August 10, 2001 and for economic injury the deadline is February 11, 2002.

(Catalog of Federal Domestic Assistance Program Nos. 59002 and 59008)
Dated: July 11, 2001.
Herbert L. Mitchell,
Associate Administrator for Disaster Assistance.

[FR Doc. 01-17789 Filed 7-16-01; 8:45 am]

BILLING CODE 8025-01-P